OFFICE OF PERSONNEL MANAGEMENT

Excepted Service

AGENCY: Office of Personnel Management.

ACTION: Notice.

SUMMARY: This gives notice of positions placed or revoked under Schedule C in the excepted service, as required by Civil Service Rule VI, Exceptions from the Competitive Service.

FOR FURTHER INFORMATION CONTACT: Pam Shivery, Director, Washington Service Center, Employment Service (202) 606-1015.

SUPPLEMENTARY INFORMATION: The Office of Personnel Management published its last monthly notice updating appointing authorities established or revoked under the Excepted Service provisions of 5 CFR 213 November 19, 2001 (66 FR 57992). Individual authorities established or revoked under Schedule C October 1, 2001, through October 31, 2001, appear in the listing below. Future notices will be published on the fourth Tuesday of each month, or as soon as possible thereafter. A consolidated listing of all authorities as of June 30 has been published.

Schedule C

The following Schedule C authorities were established during November 2001:

Broadcasting Board of Governors

Confidential Assistant to the Director, Office of Cuba Broadcasting. Effective October 10, 2001.

Chief of Staff to the Director, Office of Cuba Broadcasting. Effective October 10, 2001.

Department of Agriculture

Confidential Assistant to the Deputy Secretary. Effective October 8, 2001.

Confidential Assistant to the Secretary of Agriculture. Effective October 10, 2001.

Confidential Assistant to the Under Secretary for Rural Development. Effective October 12, 2001.

Confidential Assistant to the Director of Communications. Effective October 19, 2001.

Confidential Assistant to the Assistant Secretary for Congressional Relations. Effective October 25, 2001.

Confidential Assistant to the Administrator for Risk Management Agency. Effective October 26, 2001.

Confidential Assistant to the Secretary of Agriculture. Effective October 26, 2001.

Department of the Air Force (DOD)

Confidential Assistant to the Secretary of the Air Force. Effective October 8, 2001.

Department of Commerce

Speechwriter to the Director, Office of Public Affairs. Effective October 1, 2001.

Confidential Assistant to the Assistant Secretary for Trade Development, International Trade Administration. Effective October 2, 2001.

Confidential Assistant to the Chief of Staff. Effective October 2, 2001.

Legislative Affairs Specialist to the Under Secretary for International Trade, International Trade Administration. Effective October 2, 2001.

Special Assistant to the Assistant Secretary for Trade Development, International Trade Administration. Effective October 2, 2001.

Special Assistant to the Assistant Secretary for Communications and Information, National Telecommunications and Information Administration. Effective October 5, 2001.

Senior Advisor to the Assistant Secretary for Communications and Information. Effective October 10, 2001.

Senior Advisor to the Director, Minority Business Development Agency. Effective October 12, 2001.

Director of Communications to the Assistant Secretary for Trade Development, International Trade Administration. Effective October 12, 2001.

Director, Congressional and Public Affairs to the Under Secretary for Export Administration, Bureau of Export Administration. Effective October 15, 2001.

Executive Assistant to the Assistant Secretary for Trade Development. Effective October 15, 2001.

Deputy Communications Director to the Assistant Secretary for Trade Development. Effective October 22, 2001.

Special Assistant to the Under Secretary for Export Administration, Bureau of Export Administration. Effective October 22, 2001.

Chief Of Protocol to the Chief of Staff. Effective October 26, 2001.

Confidential Assistant to the Deputy Assistant Secretary for Export Promotion services. Effective October 26, 2001.

Confidential Assistant to the Director of External Affairs. Effective October 30, 2001.

Department of Defense

Personal and Confidential Assistant to the Under Secretary of Defense (Personnel And Readiness). Effective October 2, 2001.

Personal and Confidential Assistant to the Secretary of Defense. Effective October 8, 2001.

Confidential Assistant to the Special Assistant to the Secretary of Defense (White House Liaison). Effective October 8, 2001.

Special Assistant to the Principal Deputy Assistant Secretary of Defense (Legislative Affairs). Effective October 22, 2001.

Special Assistant to the Deputy Under Secretary of Defense (International Technology Security). Effective October 25, 2001.

Personal and Confidential Assistant to the Secretary of Defense. Effective October 25, 2001.

Defense Fellow to the Special Assistant to the Secretary of Defense (White House Liaison). Effective October 26, 2001.

Special Assistant for White House Liaison to the Special Assistant to the Secretary of Defense (White House Liaison). Effective October 30, 2001.

Speechwriter to the Director, Directorate for Editorial Services. Effective October 31, 2001.

Department of Education

Confidential Assistant to the Director, White House Initiative on Hispanic Education. Effective October 2, 2001.

Confidential Assistant to the Deputy Assistant Secretary for Regional Services. Effective October 2, 2001.

Special Assistant to the Secretary of Education. Effective October 15, 2001.

Special Assistant to the Senior Advisor to the Secretary. Effective October 19, 2001.

Confidential Assistant to the Director of Scheduling and Briefing. Effective October 19, 2001.

Deputy Assistant Secretary for Regional Services to the Assistant Secretary, Office of Intergovernmental and Interagency Affairs. Effective October 22, 2001.

Special Assistant to the Director, White House Initiatives on Hispanic Education. Effective October 22, 2001.

Deputy Assistant Secretary for Intergovernmental, Constituent Relations and Corporate Liaison to the Assistant Secretary, Office for Intergovernmental and Interagency Affairs. Effective October 22, 2001.

Special Assistant to the Director, Faith Based and Community Initiatives Center. Effective October 22, 2001.

Special Assistant to the Chief of Staff. Effective October 22, 2001.

Special Assistant to the Assistant Secretary for Special Education and Rehabilitative Services. Effective October 22, 2001.

Special Assistant to the Deputy Assistant Secretary for Regional Services. Effective October 22, 2001.

Confidential Assistant to the Assistant Secretary for Legislation and Congressional Affairs. Effective October 24, 2001.

Confidential Assistant to the Assistant Secretary for Elementary and Secondary Education. Effective October 24, 2001.

Special Assistant to the Deputy Assistant Secretary for Intergovernmental, Constituent Relations and Corporate Liaison. Effective October 24, 2001.

Confidential Assistant to the Counselor to the Secretary. Effective October 24, 2001.

Special Assistant to the Deputy Secretary. Effective October 24, 2001.

Confidential Assistant to the Assistant Secretary for Elementary and Secondary Education. Effective October 24, 2001.

Special Assistant to the Chief of Staff. Effective October 29, 2001.

Confidential Assistant to the Deputy Assistant Secretary for Enforcement. Effective October 30, 2001.

Confidential Assistant to the Director, Scheduling and Briefing Staff. Effective October 30, 2001.

Special Assistant to the Assistant Secretary for Legislation and Congressional Affairs. Effective October 30, 2001.

Secretary's Regional Representative, Region VIII to the Deputy Assistant Secretary for Regional Services. Effective October 30, 2001.

Confidential Assistant to the Director, Office of Bilingual and Minority Languages Affairs. Effective October 31, 2001.

Department of Energy

Special Assistant to the Assistant Secretary for Environment, Safety and Health. Effective October 12, 2001.

Special Assistant to the Director, Office of Scheduling and Advance. Effective October 16, 2001.

Assistant Secretary for International Affairs. Effective October 24, 2001.

Daily Scheduler to the Director of Scheduling and Advance. Effective October 24, 2001.

Deputy Director of Advance to the Director of Scheduling and Advance. Effective October 26, 2001.

Executive Assistant to the Under Secretary. Effective October 26, 2001.

Staff Assistant to the Deputy Assistant Secretary for Natural Gas and Petroleum Technology. Effective October 26, 2001.

Senior Policy Advisor to the Secretary. Effective October 26, 2001.

Confidential Assistant to the Assistant Secretary for Congressional and Intergovernmental Affairs. Effective October 26, 2001.

Department of Health and Human Services

Confidential Assistant to the Executive Secretary. Effective October 2, 2001.

Special Assistant to the Deputy Secretary of Health and Human Services. Effective October 5, 2001.

Special Assistant to the Administrator, Human Resources and Services Administration. Effective October 17, 2001.

Executive Director, President's Council on Physical Fitness and Sports to the Assistant Secretary for Health. Effective October 24, 2001.

Special Assistant to the General Counsel. Effective October 26, 2001.

Director, Correspondence Control Center to the Executive Secretary. Effective October 26, 2001.

Department of Housing and Urban Development

Staff Assistant to the Director of Scheduling. Effective October 8, 2001.

Staff Assistant to the Assistant Secretary for Administration. Effective October 12, 2001.

Special Assistant to the Assistant Secretary for Community Planning and Development. Effective October 12, 2001.

Staff Assistant to the Assistant Secretary for Community Planning and Development. Effective October 15, 2001.

Staff Assistant to the Deputy Assistant Secretary for Intergovernmental Relations. Effective October 18, 2001.

Special Assistant to the Assistant Secretary for Housing-Federal Housing Commissioner. Effective October 22, 2001.

Advance Coordinator to the Director, Executive Scheduling. Effective October 26, 2001.

Special Assistant (Speech Writer) to the Assistant Secretary for Public Affairs. Effective October 26, 2001.

Special Assistant to the Secretary. Effective October 29, 2001.

Department of the Interior

Special Assistant to the Assistant Secretary, Policy Management and Budget. Effective October 2, 2001.

Special Assistant to the Assistant Secretary, Indian Affairs. Effective October 30, 2001.

Department of Justice

Senior Policy Advisor to the Assistant Attorney General, Office of Legal Policy. Effective October 2, 2001.

Attorney Advisor to the Assistant Attorney General, Civil Rights Division. Effective October 2, 2001.

Assistant to the Attorney General. Effective October 2, 2001.

Special Assistant to the Deputy Attorney General. Effective October 2, 2001.

Staff Assistant to the Assistant Attorney General, Office of Justice Programs. Effective October 2, 2001.

Chief of Staff to the Director, Bureau of Justice Assistance, Office of Justice Programs. Effective October 19, 2001.

Special Assistant to the Assistant Attorney General, Office of Justice Programs. Effective October 25, 2001.

Special Assistant to the Solicitor General. Effective October 26, 2001.

Special Assistant to the Director, Office of Intergovernmental Affairs. Effective October 26, 2001.

Department of Labor

Research Assistant to the Assistant Secretary for Congressional and Intergovernmental Affairs. Effective October 1, 2001.

Secretary's Representative, Chicago, Illinois to the Assistant Secretary for Congressional and Intergovernmental Affairs. Effective October 2, 2001.

Senior Intergovernmental Officer to the Assistant Secretary for Congressional and Intergovernmental Affairs. Effective October 12, 2001.

Staff Assistant to the Assistant Secretary for Mine Safety and Health. Effective October 16, 2001.

Chief of Staff to the Assistant Secretary for Policy. Effective October 22, 2001.

Staff Assistant to the Secretary of Labor. Effective October 22, 2001.

Speechwriter to the Assistant Secretary for Public Affairs. Effective October 22, 2001.

Research Assistant to the Assistant Secretary for Congressional and Intergovernmental Affairs. Effective October 22, 2001.

Special Assistant to the Deputy Assistant Secretary, Office of Federal Contract Compliance Programs, Employment Standards Administration. Effective October 22, 2001.

Special Assistant to the Assistant Secretary for Public Affairs. Effective October 22, 2001.

Associate Deputy Secretary to the Deputy Secretary. Effective October 22, 2001.

Senior Policy Analyst to the Assistant Secretary for Policy. Effective October 22, 2001.

Deputy Assistant Secretary to the Assistant Secretary, Veterans Employment and Training. Effective October 22, 2001.

Staff Assistant to the Director, Office of Labor Management Standards. Effective October 22, 2001.

Staff Assistant to the Director, 21st Century Workforce. Effective October 22, 2001.

Senior Legislative Officer to the Assistant Secretary for Congressional and Intergovernmental Affairs. Effective October 22, 2001.

Special Assistant to the Assistant Secretary for Veterans' Employment and Training. Effective October 22, 2001.

Special Assistant to the Director, 21st Century Workforce. Effective October 22, 2001.

Special Assistant to the Assistant Secretary for Public Affairs. Effective October 22, 2001.

Senior Intergovernmental Officer to the Assistant Secretary for Congressional and Intergovernmental Affairs. Effective October 22, 2001.

Secretary's Representative to the Assistant Secretary, Office of Congressional and Intergovernmental Affairs. Effective October 31, 2001.

Department of State

Program Support Assistant to the Foreign Affairs Officer. Effective October 3, 2001.

Staff Assistant to the Assistant Secretary. Effective October 8, 2001.

Special Assistant to the Under Secretary. Effective October 8, 2001.

Member, Policy Planning Staff to the Director, Policy Planning Staff. Effective October 8, 2001.

Special Assistant to the Assistant Secretary for Public Affairs. Effective October 8, 2001.

Public Affairs Specialist to the Assistant Secretary for Public Affairs. Effective October 8, 2001.

Public Affairs Specialist to the Assistant Secretary for Public Affairs. Effective October 8, 2001.

Staff Assistant to the Deputy Assistant Secretary. Effective October 8, 2001.

Public Affairs Specialist to the Assistant Secretary for Public Affairs. Effective October 9, 2001.

Member, Policy Planning Staff to the Director, Policy Planning Staff. Effective October 9, 2001.

Executive Assistant to the Deputy Secretary of State. Effective October 9, 2001.

Special Assistant to the Senior Advisor to the Secretary, White House Liaison. Effective October 9, 2001.

Special Assistant to the Under Secretary for Arms Control and International Security. Effective October 9, 2001.

Special Assistant to the Assistant Secretary for Legislative Affairs. Effective October 9, 2001.

Legislative Analyst to the Assistant Secretary for Legislative Affairs. Effective October 9, 2001.

Special Assistant to the Assistant Secretary for Political-Military Affairs. Effective October 9, 2001.

Legislative Management Officer to the Assistant Secretary for Legislative Affairs. Effective October 9, 2001.

Special Assistant to the Assistant Secretary, Bureau of East Asian and Pacific Affairs. Effective October 9, 2001.

Public Affairs Specialist to the Assistant Secretary for Public Affairs. Effective October 9, 2001.

Member, Policy Planning Staff to the Director, Policy Planning Staff. Effective October 9, 2001.

Special Assistant to the Director, White House Liaison Staff. Effective October 9, 2001.

Attorney Advisor to the Assistant Secretary for Civil Rights. Effective October 10, 2001.

Legislative Analyst to the Assistant Secretary for Legislative Affairs. Effective October 12, 2001.

Legislative Management Officer to the Assistant Secretary for Legislative Affairs. Effective October 12, 2001.

Special Assistant to the Assistant Secretary for European Affairs. Effective October 16, 2001.

Staff Assistant to the Director, White House Liaison Staff. Effective October 16, 2001.

Staff Assistant to the Assistant Secretary for International Narcotics and Law Enforcement Affairs. Effective October 16, 2001.

Special Assistant to the Deputy Secretary of State. Effective October 16, 2001.

Special Advisor to the Assistant Secretary, Bureau of East Asian and Pacific Affairs. Effective October 16, 2001.

Supervisory Foreign Affairs Officer to the Under Secretary for Global Affairs. Effective October 18, 2001.

Staff Assistant to the Director, White House Liaison Staff. Effective October 19, 2001.

Staff Aide to the Assistant Secretary for Civil Rights. Effective October 19, 2001.

Special Assistant to the Assistant Secretary for African Affairs. Effective October 19, 2001.

Staff Assistant to the Under Secretary for Arms Control and International Security. Effective October 19, 2001.

Special Assistant to the Assistant Secretary for Educational and Cultural Affairs. Effective October 19, 2001.

Staff Assistant to the Director, Policy Planning Staff, Office of the Secretary. Effective October 19, 2001.

Staff Assistant to the Under Secretary for Arms Control and International Security. Effective October 19, 2001.

Supervisory Management Analyst to the Deputy Assistant Secretary for Buildings Operations. Effective October 19, 2001.

Legislative Management Officer to the Assistant Secretary for Legislative Affairs. Effective October 19, 2001.

Senior Policy Advisor to the Assistant Secretary for Legislative Affairs. Effective October 19, 2001.

Special Assistant to the Assistant Secretary for African Affairs. Effective October 22, 2001.

Legislative Management Officer to the Assistant Secretary, Bureau of Legislative Affairs. Effective October 23, 2001.

Program Officer (Director of Press Center) to the Assistant Secretary for Public Affairs. Effective October 24, 2001.

Senior Advisor to the Under Secretary for Arms Control and International Security. Effective October 24, 2001.

Department of Transportation

Special Assistant to the Administrator, Maritime Administration. Effective October 2, 2001.

Special Assistant to the Administrator, Research and Special Programs Administration, Office of the Administrator. Effective October 5, 2001.

Special Assistant to the Director of Scheduling and Advance. Effective October 10, 2001.

Special Assistant to the Secretary of Transportation. Effective October 10, 2001.

Executive Assistant to the Assistant to the Secretary and Director of Public Affairs. Effective October 19, 2001.

Department of Veterans Affairs

Special Assistant (Deputy White House Liaison) to the Deputy Assistant Secretary for Public Affairs. Effective October 3, 2001.

Special Assistant to the Special Assistant (Supervisory Regional Veterans Service Liaison Officer). Effective October 24, 2001.

Special Assistant to the Assistant Secretary for Public and Intergovernmental Affairs. Effective October 24, 2001.

Export-Import Bank of the United States

Special Assistant to the Vice President Congressional and External Affairs. Effective October 1, 2001.

Federal Emergency Management Agency

Policy Advisor for Congressional and Intergovernmental Affairs to the Division Director, Congressional and Intergovernmental Affairs Division. Effective October 18, 2001.

Federal Trade Commission

Deputy Director to the Director, Office of Public Affairs. Effective October 1, 2001.

General Services Administration

Congressional Relations Officer to the Associate Administrator for Congressional and Intergovernmental Affairs. Effective October 2, 2001.

White House Liaison to the Chief of Staff. Effective October 29, 2001.

Office of Personnel Management

Special Assistant to the Director, Office of Communications. Effective October 3, 2001.

Special Assistant to the Director, Office of Congressional Relations. Effective October 22, 2001.

Special Assistant to the Chief of Staff. Effective October 22, 2001.

Scheduling and Briefing Coordinator to the Chief of Staff. Effective October 22, 2001.

Special Assistant to the Director, Office of Congressional Relations. Effective October 26, 2001.

Office of the United States Trade Representative

Confidential Assistant to the Deputy U.S. Trade Representative. Effective October 18, 2001.

Deputy Assistant U.S. Trade Representative for Congressional Affairs to the Assistant U.S. Trade Representative for Congressional Affairs. Effective October 31, 2001.

Confidential Assistant to the Chief of Staff. Effective October 31, 2001.

Overseas Private Investment Corporation

Confidential Assistant to the Chief of Staff. Effective October 2, 2001.

Small Business Administration

Special Assistant to the Administrator. Effective October 2, 2001.

Assistant Administrator for Public Communications to the Associate Administrator for Communications and Public Liaison. Effective October 2, 2001.

Senior Advisor for International Trade to the Assistant Administrator for International Trade. Effective October 2, 2001.

Regional Administrator, Region IX, San Francisco to the Administrator, Small Business Administration. Effective October 4, 2001.

Regional Administrator, Region V, Chicago, IL to the Associate Administrator for Field Operations. Effective October 19, 2001.

Assistant Scheduler to the Scheduler for the Administrator. Effective October 22, 2001.

Special Assistant to the Associate Administrator for Communications and Public Liaison. Effective October 22, 2001.

Authority: 5 U.S.C. 3301 and 3302; E.O. 10577, 3 CFR 1954-1958, Comp., p. 218

Kay Coles James,
Director, Office of Personnel Management.

[FR Doc. 01-31899 Filed 12-28-01; 8:45 am]

BILLING CODE 6325-01-M